DEPARTMENT OF TRANSPORTATION

Federal Aviation Administration

14 CFR Part 39

[Docket No. FAA-2013-0626; Directorate Identifier 2012-NM-180-AD; Amendment 39-17642; AD 2013-22-10]

RIN 2120-AA64

Airworthiness Directives; Dassault Aviation Airplanes

AGENCY: Federal Aviation Administration (FAA), Department of Transportation (DOT).

ACTION: Final rule.

SUMMARY: We are adopting a new airworthiness directive (AD) for all Dassault Aviation Model Fan Jet Falcon; Model Mystere-Falcon 200 airplanes; and Model Mystere-Falcon 20-C5, 20-D5, 20-E5, and 20-F5 airplanes. This AD was prompted by reports of defective fire extinguisher bottle cartridges. This AD requires checking manufacturing references of pyrotechnical cartridges for batch number and date, repetitive checking of cartridges for electrical continuity, and replacing defective pyrotechnical cartridges if necessary. We are issuing this AD to detect and correct defective fire bottle cartridges, which could impact the capability to extinguish a fire in an engine, auxiliary power unit, or rear compartment, which could result in damage to the airplane and injury to the occupants.

DATES: This AD becomes effective December 19, 2013.

The Director of the Federal Register approved the incorporation by reference of certain publications listed in this AD as of December 19, 2013.

ADDRESSES: You may examine the AD on the Internet at http://www.regulations.gov/#!docketDetail;D=FAA-2013-0626; or in person at the U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to the specified products. The NPRM published in the Federal Register on July 24, 2013 (78 FR 44473). The NPRM proposed to correct an unsafe condition for the specified products.

The European Aviation Safety Agency (EASA), which is the Technical Agent for the Member States of the European Community, has issued EASA Airworthiness Directive 2012-0190, dated September 24, 2012 (referred to after this as the Mandatory Continuing Airworthiness Information, or “the MCAI”), to correct an unsafe condition for the specified products. The MCAI states:

Several defective fire bottle cartridges have been reported on certain Dassault Aviation Fan Jet Falcon and Mystère-Falcon 20-() 5 aeroplanes.

The results of the investigations concluded that there was a production quality issue with the fire bottle cartridge. In addition, the part numbers (P/N) of the fire bottle cartridge and the batch numbers have been identified.

This condition, if not detected and corrected, could constitute a dormant failure that might impact the capability to extinguish a fire, either in an engine or the Auxiliary Power Unit, or the rear compartment, possibly resulting in damage to the aeroplane and injury to the occupants.

For the reason described above, this [EASA] AD requires repetitive checking of the electrical continuity [and of the references] of the fire extinguishers bottles cartridges [extinguisher bottle cartridges] and depending on findings, replacement of an affected part with a serviceable part. It also ultimately requires replacement of any affected cartridges with a serviceable part. In addition, this [EASA] AD prohibits installation of an affected fire extinguisher bottle cartridge.

You may examine the MCAI in the AD docket on the Internet at http://www.regulations.gov/#!documentDetail;D=FAA-2013-0626-0002.

Comments

We gave the public the opportunity to participate in developing this AD. We received no comments on the NPRM (78 FR 44473, July 24, 2013) or on the determination of the cost to the public.

Explanation of Change Made to the AD

We have removed the phrase “or cartridges references matching (g)(1) through (g)(3)” in paragraph (h) of this final rule since only parts that have excessive resistance must be replaced before further flight.

Conclusion

We reviewed the available data and determined that air safety and the public interest require adopting this AD with the change described previously and minor editorial changes. We have determined that these minor changes:

• Are consistent with the intent that was proposed in the NPRM (78 FR 44473, July 24, 2013) for correcting the unsafe condition; and

• Do not add any additional burden upon the public than was already proposed in the NPRM (78 FR 44473, July 24, 2013).

Costs of Compliance

We estimate that this AD affects 185 airplanes of U.S. registry.

We estimate the following costs to comply with this AD:

Estimated Costs
Action | Labor cost | Parts cost | Cost per product | Cost on U.S. operators
Check and Replacement | 5 work-hours × $85 per hour = $425 | $6,300 | $6,725 | $1,244,125

Where the service information lists required parts costs that are covered under warranty, we have assumed that there will be no charge for these parts. As we do not control warranty coverage for affected parties, some parties may incur costs higher than estimated here.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!documentDetail;D=FAA-2013-0626-0002; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-22-10 Dassault Aviation: Amendment 39-17642. Docket No. FAA-2013-0626; Directorate Identifier 2012-NM-180-AD.

(a) Effective Date

This airworthiness directive (AD) becomes effective December 19, 2013.

(b) Affected ADs

None.

(c) Applicability

This AD applies to the Dassault Aviation airplanes identified in paragraphs (c)(1) through (c)(3) of this AD, certificated in any category, all serial numbers.

(1) Model Fan Jet Falcon airplanes.

(2) Model Mystere-Falcon 200 airplanes.

(3) Model Mystere-Falcon 20-C5, 20-D5, 20-E5, and 20-F5 airplanes.

(d) Subject

Air Transport Association (ATA) of America Code 26, Fire Protection.

(e) Reason

This AD was prompted by reports of defective fire extinguisher bottle cartridges. We are issuing this AD to detect and correct defective fire bottle cartridges, which could impact the capability to extinguish a fire in an engine, auxiliary power unit, or rear compartment, which could result in damage to the airplane and injury to the occupants.

(f) Compliance

You are responsible for having the actions required by this AD performed within the compliance times specified, unless the actions have already been done.

(g) Checks of References of Cartridges

For airplanes equipped with fire extinguisher bottle cartridges having a part number (P/N), batch number, and manufacturing date as listed in paragraph (g)(1), (g)(2), or (g)(3) of this AD: Within 30 days or 100 flight hours, whichever occurs first after the effective date of this AD, check the manufacturing references of pyrotechnical cartridges for batch number and date, and check the cartridges for electrical continuity and resistance, in accordance with the Accomplishment Instructions of Dassault Mandatory Service Bulletin F20-783, Revision 1 (also referred to as 783-R1), dated June 11, 2012 (for Model Fan Jet Falcon and Mystere-Falcon 20-C5, 20-D5, 20-E5, and 20-F5 airplanes); or Dassault Mandatory Service Bulletin F200-128, Revision 1 (also referred to as 128-R1), dated June 11, 2012 (for Model Mystere-Falcon 200 airplanes).

(1) P/N 12-12-11707S1-4, with batch up to 44 inclusive, manufactured before May 2012.

(2) P/N 12-12-11707S2-4, with batch up to 33 inclusive, manufactured before May 2012.

(3) P/N 12-12-11707S3-4, with batch up to 44 inclusive, manufactured before May 2012.

(h) Replacement

If, during any check as required by paragraphs (g) and (i) of this AD, a discrepancy [excessive resistance] is identified, before next flight, replace the discrepant fire extinguisher bottle cartridge(s) with a serviceable part, in accordance with the Accomplishment Instructions of Dassault Mandatory Service Bulletin F20-783, Revision 1 (also referred to as 783-R1), dated June 11, 2012 (for Model Fan Jet Falcon and Mystere-Falcon 20-C5, 20-D5, 20-E5, and 20-F5 airplanes); or Dassault Mandatory Service Bulletin F200-128, Revision 1 (also referred to as 128-R1), dated June 11, 2012 (for Model Mystere-Falcon 200 airplanes). Replacement of discrepant fire extinguisher bottle cartridges with a serviceable part terminates the repetitive actions required by paragraph (i) of this AD for that cartridge.

(i) Repetitive Checks

At the applicable time specified in paragraph (i)(1) or (i)(2) of this AD, repeat the checks required by paragraph (g) of this AD.

(1) For airplanes equipped with fire extinguisher bottle cartridges having P/N 12-12-11707S3-4, having a batch number, and manufacturing date, as listed in paragraph (g)(3) of this AD, at intervals not to exceed 65 days.

(2) For airplanes equipped with fire extinguisher bottle cartridges having P/N 12-12-11707S1-4 or P/N 12-12-11707S2-4, having a batch number, and manufacturing date, as listed in paragraph (g)(1) or (g)(2) of this AD, at intervals not to exceed 12 months.

(j) Replacement

Except as required by paragraph (h) of this AD: Within 30 months after installation of an affected fire extinguisher bottle cartridge on an airplane, or within 36 months since cartridge manufacturing date, whichever occurs first after the effective date of this AD, replace each affected fire extinguisher bottle cartridge listed in paragraphs (g)(1), (g)(2), and (g)(3) of this AD, with a serviceable part, in accordance with the Accomplishment Instructions of Dassault Mandatory Service Bulletin F20-783, Revision 1 (also referred to as 783-R1), dated June 11, 2012 (for Model Fan Jet Falcon and Mystere-Falcon 20-C5, 20-D5, 20-E5, and 20-F5 airplanes); or Dassault Mandatory Service Bulletin F200-128, Revision 1 (also referred to as 128-R1), dated June 11, 2012 (for Model Mystere-Falcon 200 airplanes). Replacing the affected fire extinguisher bottle cartridge with a serviceable part as required by paragraph (h) or (j) of this AD, terminates the repetitive actions required by paragraph (i) of this AD for that cartridge.

(k) Parts Installation Prohibition

As of the effective date of this AD, no person may install any fire extinguisher bottle cartridge having a part number, batch number, and manufacturing date as specified in paragraph (g)(1), (g)(2), or (g)(3) of this AD, on any airplane.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to Mandatory Continuing Airworthiness Information (MCAI) European Aviation Safety Agency (EASA) Airworthiness Directive 2012-0190, dated September 24, 2012, for related information. You may examine this AD on the Internet at http://www.regulations.gov/#!documentDetail;D=FAA-2013-0626-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Mandatory Service Bulletin F20-783, Revision 1 (also referred to as 783-R1), dated June 11, 2012.

(ii) Dassault Mandatory Service Bulletin F200-128, Revision 1 (also referred to as 128-R1), dated June 11, 2012.

(3) For service information identified in this AD, contact Dassault Falcon Jet, P.O. Box 2000, South Hackensack, NJ 07606; telephone 201-440-6700; Internet http://www.dassaultfalcon.com.

(4) You may review this referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 18, 2013.
Jeffrey E. Duven,
Acting Manager, Transport Airplane Directorate, Aircraft Certification Service.

[FR Doc. 2013-27071 Filed 11-13-13; 8:45 am]

BILLING CODE 4910-13-P